ENVIRONMENTAL PROTECTION AGENCY

[EPA-HQ-OPP-2024-0041; FRL-11698-01-OCSPP]

Pesticides; Proposed Removal of Polytetrafluoroethylene From List of Approved Inert Ingredients for Pesticide Products

AGENCY: Environmental Protection Agency (EPA).

ACTION: Notice.

SUMMARY: The Environmental Protection Agency (EPA) is proposing to remove polytetrafluoroethylene (CAS No. 9002-84-0) from the current list of inert ingredients approved for use in food use and nonfood use pesticide products because this inert ingredient has been identified as a per- and polyfluoroalkyl substance (PFAS) that is no longer used in any registered pesticide product.

DATES: Comments must be received on or before March 29, 2024.

ADDRESSES: Submit your comments, identified by docket identification (ID) number EPA-HQ-OPP-2024-0041, online at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Charles Smith, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you engage in activities related to the registration of pesticide products, including but not limited to, the use of approved inert ingredients in registered pesticide products. The following list of North American Industrial Classification System (NAICS) codes is not intended to be exhaustive, but rather provides a guide to help readers determine whether this document applies to them. Potentially affected entities may include:

• Entities engaging in the formulation and preparation of agricultural and household pest control chemicals or pesticide and other agricultural and household pest control chemicals or inert manufacturers and those who make proprietary inert ingredient formulations or pesticide and other agricultural chemical manufacturing generally (NAICS code 325320).

If you have any questions regarding the applicability of this action to a particular entity, consult either person listed under FOR FURTHER INFORMATION CONTACT.

B. What is the Agency's authority for taking this action?

This action is issued under the authority of the Federal Insecticide, Fungicide, and Rodenticide Act (FIFRA), 7 U.S.C. 136-136y.

C. What action is the Agency taking?

EPA is considering removing from the inert ingredient list the chemical polytetrafluoroethylene (CAS No. 9002-84-0), also known as Teflon®. All pesticide products that initially used polytetrafluoroethylene as an inert ingredient have been cancelled or reformulated to no longer contain polytetrafluoroethylene. EPA believes it is appropriate to remove polytetrafluoroethylene from the inert ingredient list to prevent the introduction of this PFAS into new pesticide formulations without additional EPA review.

D. What should I consider as I prepare my comments for EPA?

1. Submitting CBI. Do not submit CBI information to EPA through email or https://www.regulations.gov. If you wish to include CBI in your comment, please follow the applicable instructions at https://www.epa.gov/dockets/commenting-epa-dockets#rules and clearly mark the information that you claim to be CBI. Information so marked will not be disclosed except in accordance with procedures set forth in 40 CFR part 2.

2. Tips for preparing your comments. When preparing and submitting your comments, see the commenting tips at https://www.epa.gov/dockets/comments.html.

II. Background

A. What are inert ingredients?

Most pesticide products contain substances in addition to the active ingredient(s) that are referred to as inert ingredients or sometimes as “other ingredients.” An inert ingredient generally is any substance (or group of similar substances) other than an active ingredient that is intentionally included in a pesticide product. Examples of inert ingredients include emulsifiers, solvents, carriers, aerosol propellants, fragrances, and dyes. Additional information about inert ingredients, including requirements, guidance and the InertFinder tool, can be accessed at https://www.epa.gov/pesticideregistration/inert-ingredients-regulation.

B. What is the approved list of inert ingredients?

EPA maintains a list of approved inert ingredients, available at https://ordspub.epa.gov/ords/pesticides/f?p=INERTFINDER:1::::1::. Inert ingredients that are on the approved list do not need further approval prior to inclusion in a pesticide formulation. However, applications for registration of individual formulations containing approved inert ingredients are subject to data requirements in 40 CFR part 158, regardless of whether the inert ingredient is on the approved list. If an application for registration of a pesticide product includes inert ingredients not on the approved list, the inert ingredient requires approval under section 3 of FIFRA, 7 U.S.C. 136a, and payment of a fee in accordance with section 33 of FIFRA, 7 U.S.C. 136w-8.

III. EPA's Proposed Action

A. Why is EPA considering this action?

PFAS are synthetic organic compounds that do not occur naturally in the environment but have widespread use in commerce. The strong carbon-fluorine bonds of PFAS make some of them resistant to degradation and thus highly persistent in the environment. Some PFAS have been detected in wildlife and in humans, indicating that at least some PFAS have the ability to bioaccumulate. Thus, exposure to PFAS is an urgent public health and environmental issue in the United States. As part of its strategic roadmap to address risks posed by PFAS (https://www.epa.gov/system/files/documents/2021-10/pfas-roadmap_final-508.pdf), EPA identified some specific actions to further the Agency's directives to research, restrict, and remediate PFAS.

As part of the “whole-of-agency” approach to reduce PFAS use and releases, EPA has reviewed the Agency's list of chemical substances that have been approved for use as inert ingredients in pesticide products to determine whether any of these inert ingredients are PFAS. Based on that review, EPA is proposing to remove polytetrafluoroethylene (CAS No. 9002-84-0) from the current list of inert ingredients approved for use in food and nonfood pesticide products because it is a PFAS, and it is no longer used in currently registered pesticide products. This includes the revocation of the tolerance exemption for polytetrafluoroethylene under 40 CFR 180.960.

B. What effect would this action have?

Once an inert ingredient is removed from the list, any proposed future use of the inert ingredient would need to be supported by data provided to and reviewed by the EPA as part of a new inert ingredient submission request. The type of data needed to evaluate a new inert ingredient may include, among others, studies to evaluate potential carcinogenicity, adverse reproductive effects, developmental toxicity, genotoxicity as well as environmental effects associated with any chemical substance that is persistent or bioaccumulative. Information regarding the inert ingredient approval process may be found at https://www.epa.gov/pesticide-registration/guidance-documents-inert-ingredients.

EPA suggests that pesticide registrants review their records to ensure that the chemical substance, listed by chemical name and Chemical Abstracts Service Registry Number (CAS No.), in the docket for this action is no longer used as an inert ingredient in their registered pesticide products. While EPA has endeavored to carefully review its records, if a pesticide registrant is aware of a registered product containing polytetrafluoroethylene, that registrant should contact the Agency directly, using the contact listed under FOR FURTHER INFORMATION CONTACT.

Similarly, producers of proprietary mixtures currently approved for use as inert ingredients in pesticide products should also review their records to ensure that the chemical substance listed in the docket for this action is, in fact, not currently used in their proprietary mixtures.

After the close of the comment period, EPA will consider all comments received and determine an appropriate final action.

Dated: February 22, 2024.
Michal Freedhoff,
Assistant Administrator, Office of Chemical Safety and Pollution Prevention.

[FR Doc. 2024-04059 Filed 2-27-24; 8:45 am]

BILLING CODE 6560-50-P